DEPARTMENT OF TRANSPORTATION

Federal Transit Administration

49 CFR Part 601

[Docket No. FTA-2025-0003]

RIN 2132-AB52

Organization, Functions, and Procedures

AGENCY: Federal Transit Administration (FTA), Department of Transportation (DOT).

ACTION: Final rule.

SUMMARY: The Federal Transit Administration (FTA) is revising its regulations on the agency's organization, functions, and procedures to update outdated information and increase clarity.

DATES: This final rule is effective on July 1, 2025.

FOR FURTHER INFORMATION CONTACT: Heather Ueyama, Office of Chief Counsel, (202) 366-7374 or heather.ueyama@dot.gov. Office hours are from 8:30 a.m. to 5 p.m., Monday through Friday, except Federal holidays.

SUPPLEMENTARY INFORMATION:

I. Purpose and Summary of Regulatory Action

This final rule amends FTA's regulations regarding the agency's organization, functions, and procedures at 49 CFR part 601. These regulations describe the various offices of which FTA is comprised and the sources and locations of available information about FTA programs. They also provide information regarding FTA's procedures for rulemaking and emergency relief petitions.

Much of the information in the regulations is nearly twenty years out of date and no longer accurate. FTA last updated the provisions regarding emergency relief petitions in 2007 (72 FR 912). Most of the other provisions have not been updated since 2005 (70 FR 67318). Accordingly, FTA is amending part 601 to update outdated information and make other minor edits. These revisions will increase clarity for the public by providing accurate information about FTA's organizational structure and its procedures for rulemaking and emergency relief petitions.

II. Section-by-Section Analysis

Authority Citations

FTA has revised the authority citations for accuracy.

Subpart A—General Provisions

Section 601.1 Purpose

FTA made a minor, non-substantive edit to this section for clarity.

Section 601.2 Organization of FTA

FTA edited the heading of this section from “Organization of the Administration” to “Organization of FTA” for clarity. In paragraph (a), FTA added the Office of Transit Safety and Oversight and the Office of Regional Services to the list of headquarters offices. It also made a corresponding edit to revise the number of headquarters offices from eight to ten.

In paragraph (b), FTA removed the addresses and telephone numbers of its regional offices. This information is both outdated and subject to change in the future. In the list of regional offices, FTA has removed the Lower Manhattan Recovery Office and revised the table to reflect that the United States Virgin Islands are located in FTA Region IV, not Region II. These revisions are necessary to reflect the agency's current organizational structure accurately.

601.3 General Responsibilities

FTA has updated this section to remove outdated information and to reflect the current responsibilities of FTA's headquarters offices. FTA has added the Office of Transit Safety and Oversight and the Office of Regional Services to reflect the creation of those two offices since this section was last updated in 2005. FTA has also made minor edits for clarity.

601.4 Responsibilities of the Administrator

FTA did not amend this section.

Subpart B—Public Availability of Information

601.10 Sources of Information

Throughout this section, FTA updated the agency's headquarters address for accuracy and made minor edits for clarity. In paragraph (a)(1), FTA also removed the URL for the agency's website because this information need not be codified in the CFR. FTA revised paragraph (b) to update the name, contact information, and services provided by the Department of Transportation Docket Management Facility for accuracy.

Subpart C—Rulemaking Procedures

601.20 Applicability

FTA revised “under an Act” to “by FTA.” This is a minor edit to clarify that the procedures in this section apply to rulemaking actions promulgated by FTA.

601.21 Definitions

FTA is removing and reserving this section, which defined the terms “Act” and “Administrator.” The term “Act” is no longer used in the regulation, given the revision to section 601.20 discussed above. The term “Administrator” is already defined in a parenthetical in section 601.2(a). In addition, the authorities of the FTA Administrator and his or her designees regarding rulemaking are described in FTA's internal delegations of authority procedures. It therefore is unnecessary to define these terms in the regulation.

601.22 General

FTA made a minor clarifying edit in paragraph (b) to revise “subpart” to “part.”

601.23 Initiation of Rulemaking

FTA did not amend this section.

601.24 Contents of Notices of Proposed Rulemaking

FTA did not amend this section.

601.25 Participation by Interested Persons

FTA made a minor clarifying edit to the citation in paragraph (b) for accuracy.

601.26 Petitions for Extension of Time To Comment

FTA did not amend this section.

601.27 Contents of Written Comments

FTA removed language requiring commenters to submit five copies of written comments on FTA rulemakings, as it is no longer accurate. Commenters need only submit one copy. This revision both aligns the regulation with FTA's practice and reduces potential confusion about the agency's requirements for public participation in rulemakings.

601.28 Consideration of Comments Received

FTA made minor, non-substantive edits to this section for clarity.

601.29 Additional Rulemaking Proceedings

FTA removed superfluous language from this section. These edits are minor and non-substantive.

601.30 Hearings

FTA revised paragraph (b) to clarify that the Administrator's and Chief Counsel's designation of representatives to participate in rulemaking hearings is discretionary. This aligns the regulation with FTA's existing practice and will have no impact on the status quo. FTA also made minor, non-substantive edits to delete superfluous language from this paragraph.

601.31 Adoption of Final Rules

FTA revised this section to remove language about FTA's internal process for drafting, consideration, and approval of final rules. This information relates solely to FTA's internal procedures, which are detailed in internal FTA Orders. These procedures need not be codified in the CFR to be effective.

601.32 Petitions for Rulemaking or Exemptions

In paragraph (b)(1), FTA updated the agency's headquarters address for accuracy. FTA also removed language requiring petitions for rulemaking exemptions to be submitted in duplicate. This aligns the regulation with FTA's existing practice and will have no effect on the status quo.

601.33 Processing of Petitions

FTA made minor, non-substantive edits to paragraph (b) for clarity.

601.34 Petitions for Reconsideration

In paragraph (a), FTA updated the agency's headquarters address for accuracy. FTA also removed language requiring rulemaking petitions for reconsideration to be submitted in duplicate. This aligns the regulation with FTA's existing practice and will have no effect on the status quo. FTA made other minor clarifying edits to this section for clarity.

601.36 Procedures for Direct Final Rulemaking

FTA did not amend this section.

Subpart D—Emergency Procedures for Public Transportation Systems

FTA amended two authority references for accuracy. FTA also added a citation to 49 U.S.C. 5324, which references FTA's Public Transportation Emergency Relief Program.

601.40 Applicability

FTA did not amend this section.

601.41 Petitions for Relief

FTA did not amend this section.

601.42 Emergency Relief Docket

FTA revised paragraph (a) to update the location of FTA's emergency relief docket. FTA also removed the URL for the agency's website in paragraph (c) because this information need not be codified in the CFR.

601.43 Opening the Docket

FTA made a minor, non-substantive edit in paragraph (b) for clarity. In paragraph (c), FTA updated the address of the agency's headquarters office for accuracy.

601.44 Posting to the Docket

FTA revised paragraph (b) to update the location of FTA's emergency relief docket and the address of the Department of Transportation Docket Management Facility.

601.45 Required Information

FTA did not amend this section.

601.46 Processing of Petitions

FTA did not amend this section.

601.47 Review Procedures

FTA made minor, non-substantive edits to paragraphs (a) and (b) for clarity.

III. Good Cause for Dispensing With Notice and Comment and Delayed Effective Date

Under the Administrative Procedure Act (APA) (5 U.S.C. 553(b)(B)), an agency may dispense with notice and comment if it finds, for good cause, that they are impracticable, unnecessary, or contrary to the public interest. Additionally, 5 U.S.C. 553(d) provides that an agency may waive the 30-day delayed effective date upon finding of good cause. This rule revises part 601 to remove outdated information regarding FTA's organizational structure, the location of available information, and procedures for rulemaking and emergency relief petitions. These changes have no substantive impact on the status quo and merely bring the regulation up to date since it was last updated nearly twenty years ago (e.g., updating addresses for accuracy). As a result, FTA would not be able to make any substantive changes in response to comments received on these provisions. For the same reasons, FTA finds that the delayed effective date is unnecessary. Accordingly, FTA finds good cause under 5 U.S.C. 553(b)(B) and (d)(3) to waive notice and opportunity for comment and the delayed effective date.

IV. Regulatory Analyses and Notices

Executive Orders 12866 and 13563 (Regulatory Review)

E.O. 12866 (“Regulatory Planning and Review”), as supplemented by E.O. 13563 (“Improving Regulation and Regulatory Review”), directs Federal agencies to assess the benefits and costs of regulations and to select regulatory approaches that maximize net benefits when possible. It also directs the Office of Management and Budget (OMB) to review significant regulatory actions, including regulations with annual economic effects of $100 million or more. OMB has determined the final rule is not significant within the meaning of E.O. 12866 and has not reviewed the rule under that order.

The rule removes outdated references about FTA's organizational structure, removes outdated information on rulemaking procedures, and removes duplicative rulemaking procedures. Although the changes do not affect requirements for regulated entities, improving the clarity and accuracy of the provisions will reduce the time needed for regulated entities to understand FTA's rulemaking procedures, resulting in minor and unquantified cost savings.

Executive Order 14192 (Deregulatory Action)

E.O. 14192 (“Unleashing Prosperity Through Deregulation”) requires that for “each new [E.O. 14192 regulatory action] issued, at least ten prior regulations be identified for elimination.” Implementation Guidance for E.O. 14192, issued by OMB (Memorandum M-25-20, March 25, 2025) defines an E.O. 14192 deregulatory action as “an action that has been finalized and has total costs less than zero.” This proposed rule, if finalized, is expected to have total costs less than zero, and therefore is expected to be an E.O. 14192 deregulatory action.

Regulatory Flexibility Act

The Regulatory Flexibility Act of 1980 (RFA) (5 U.S.C. 601 et seq.) requires Federal agencies to assess the impact of a regulation on small entities unless the agency determines that the regulation is not expected to have a significant economic impact on a substantial number of small entities.

FTA has determined that the final rule will not have a significant effect on a substantial number of small entities. The rule removes outdated information from FTA's regulations regarding the agency's organization, functions, and procedures but does not change requirements for regulated entities.

Unfunded Mandates Reform Act of 1995

FTA has determined that this final rule does not impose unfunded mandates, as defined by the Unfunded Mandates Reform Act of 1995 (Pub. L. 104-4, March 22, 1995). This final rule does not include a Federal mandate that may result in the expenditure by State, local, and Tribal governments, in the aggregate, or by the private sector of $100 million or more in 1995 dollars (adjusted for inflation) in any one year.

Executive Order 13132 (Federalism Assessment)

E.O. 13132 requires agencies to assure meaningful and timely input by State and local officials in the development of regulatory policies that may have a substantial direct effect on the States, on the relationship between the National Government and the States, or on the distribution of power and responsibilities among the various levels of government. This action has been analyzed in accordance with the principles and criteria contained in E.O. 13132, dated August 4, 1999, and FTA determined this action will not have a substantial direct effect or sufficient federalism implications on the States. FTA also determined this action will not preempt any State law or regulation or affect the States' ability to discharge traditional State governmental functions.

Executive Order 12372 (Intergovernmental Review)

The regulations implementing E.O. 12372 regarding intergovernmental consultation on Federal programs and activities do not apply to this rulemaking.

Paperwork Reduction Act

FTA has analyzed this rule under the Paperwork Reduction Act and it does not impose additional information collection requirements for the purposes of the Act above and beyond existing information collection clearances from OMB.

National Environmental Policy Act

Federal agencies are required to adopt implementing procedures for the National Environmental Policy Act (NEPA) that establish specific criteria for, and identification of, three classes of actions: (1) Those that normally require preparation of an Environmental Impact Statement, (2) those that normally require preparation of an Environmental Assessment, and (3) those that are categorically excluded from further NEPA review (40 CFR 1507.3(b)). This rule qualifies for categorical exclusions under 23 CFR 771.118(c)(4) (planning and administrative activities that do not involve or lead directly to construction). FTA has evaluated whether the final rule will involve unusual or extraordinary circumstances and has determined it will not.

Executive Order 13175 (Tribal Consultation)

FTA has analyzed this rule under E.O. 13175 (“Consultation and Coordination with Indian Tribal Governments”), and it will not have substantial direct effects on one or more Indian tribes; will not impose substantial direct compliance costs on Indian tribal governments; and will not preempt tribal laws. Therefore, a tribal summary impact statement is not required.

Executive Order 13211 (Energy Effects)

FTA has analyzed this action under E.O. 13211, Actions Concerning Regulations That Significantly Affect Energy Supply, Distribution, or Use. FTA has determined this action is not a significant energy action under that order and is not likely to have a significant adverse effect on the supply, distribution, or use of energy. Therefore, a Statement of Energy Effects is not required.

Privacy Act

Anyone can search the electronic form of all comments received into any of our dockets by the name of the individual submitting the comment (or signing the comment, if submitted on behalf of an association, business, labor union, etc.). You may review DOT's complete Privacy Act Statement in the Federal Register at 65 FR 19477 (April 11, 2000).

Regulation Identifier Number

A Regulation Identifier Number (RIN) is assigned to each regulatory action listed in the Unified Agenda of Federal Regulations. The Regulatory Information Service Center publishes the Unified Agenda in April and October of each year. The RIN contained in the heading of this document can be used to cross-reference this final rule with the Unified Agenda.

List of Subjects in 49 CFR Part 601

Administrative practice and procedure, Organization and functions (Government agencies), Freedom of Information.

In consideration of the foregoing, and under the authority of 49 U.S.C. 5334, and the delegation of authority at 49 CFR 1.91, the Federal Transit Administration revises and republishes 49 CFR part 601 to read as follows:

PART 601—ORGANIZATION, FUNCTIONS, AND PROCEDURES

Subpart A—General Provisions

Sec.
601.1 Purpose.
601.2 Organization of FTA.
601.3 General responsibilities.
601.4 Responsibilities of the Administrator.
Subpart B—Public Availability of Information
601.10 Sources of information.
Subpart C—Rulemaking Procedures
601.20 Applicability.
601.21 [Reserved].
601.22 General.
601.23 Initiation of rulemaking.
601.24 Contents of notices of proposed rulemaking.
601.25 Participation by interested persons.
601.26 Petitions for extension of time to comment.
601.27 Contents of written comments.
601.28 Consideration of comments received.
601.29 Additional rulemaking proceedings.
601.30 Hearings.
601.31 Adoption of final rules.
601.32 Petitions for rulemaking or exemptions.
601.33 Processing of petitions.
601.34 Petitions for reconsideration.
601.35 Proceedings on petitions for reconsideration.
601.36 Procedures for direct final rulemaking.
Subpart D—Emergency Procedures for Public Transportation Systems
601.40 Applicability.
601.41 Petitions for relief.
601.42 Emergency relief docket.
601.43 Opening the docket.
601.44 Posting to the docket.
601.45 Required information.
601.46 Processing of petitions.
601.47 Review procedures.

Authority: 5 U.S.C. 552; 49 U.S.C. 5301 and 5334; 49 CFR 1.91.

Subpart D also issued under 42 U.S.C. 5141.

Subpart A—General Provisions

§ 601.1 Purpose.

This part describes the organization of the Federal Transit Administration (“FTA”), an operating administration within the U.S. Department of Transportation. This part also describes general responsibilities of the various offices of which FTA is comprised. In addition, this part describes the sources and locations of available FTA program information and provides information regarding FTA's rulemaking procedures.

§ 601.2 Organization of FTA.

(a) The headquarters organization of FTA is comprised of ten principal offices which function under the overall direction of the Federal Transit Administrator (Administrator) and Deputy Administrator. These offices are:

(1) Office of Administration.

(2) Office of Budget and Policy.

(3) Office of Chief Counsel.

(4) Office of Civil Rights.

(5) Office of Communications and Congressional Affairs.

(6) Office of Planning and Environment.

(7) Office of Program Management.

(8) Office of Research, Demonstration and Innovation.

(9) Office of Transit Safety and Oversight

(10) Office of Regional Services

(b) FTA has ten regional offices, each of which function under the overall direction of the Administrator and Deputy Administrator, and under the general direction of a Regional Administrator.

Region/States

I. Connecticut, Maine, Massachusetts, New Hampshire, Rhode Island, and Vermont

II. New York, New Jersey

III. Delaware, District of Columbia, Maryland, Pennsylvania, Virginia, and West Virginia

IV. Alabama, Florida, Georgia, Kentucky, Mississippi, North Carolina, Puerto Rico, South Carolina, Tennessee, and U.S. Virgin Islands

V. Illinois, Indiana, Minnesota, Michigan, Ohio, and Wisconsin

VI. Arkansas, Louisiana, New Mexico, Oklahoma, and Texas

VII. Iowa, Kansas, Missouri, and Nebraska

VIII. Colorado, Montana, North Dakota, South Dakota, Utah, and Wyoming

IX. Arizona, California, Hawaii, Nevada, Guam, American Samoa, and Northern Mariana Islands

X. Alaska, Idaho, Oregon, and Washington

§ 601.3 General responsibilities.

The general responsibilities of each of the offices which comprise the headquarters organization of FTA are:

(a) Office of Administration. Directed by an Associate Administrator for Administration, this office develops and administers comprehensive programs to meet FTA's resource management and administrative support requirements in the following areas: Organization and management planning, information resources management, human resources, contracting and procurement, and administrative services.

(b) Office of Budget and Policy. Directed by an Associate Administrator for Budget and Policy, this office is responsible for policy development and performance measurement, strategic and program planning, program evaluation, budgeting, and accounting. The office provides policy direction on legislative proposals and coordinates the development of regulations. The office formulates and justifies FTA budgets within the Department of Transportation, to the Office of Management and Budget, and Congress. The office establishes apportionments and allotments for program and administrative funds, ensures that all funds are expended in accordance with Administration and congressional intent, and prepares and coordinates statutory reports to Congress. The office coordinates with and supports the Department of Transportation Chief Financial Officer on all FTA accounting and financial management matters. This office also serves as the audit liaison in responding to the Office of the Inspector General and the Government Accountability Office.

(c) Office of Chief Counsel. Directed by a Chief Counsel, this office provides legal advice and support to the Administrator and FTA management. The office is responsible for reviewing development and management of FTA-sponsored projects; representing the Administration before civil courts and administrative agencies; drafting and reviewing legislation and regulations to implement the Administration's programs; and working to ensure that the agency upholds the highest ethical standards. The office coordinates with and supports the U.S. Department of Transportation's General Counsel on FTA legal matters.

(d) Office of Civil Rights. Directed by an Associate Administrator for Civil Rights, this office ensures full implementation of civil rights and equal opportunity initiatives by all recipients of FTA assistance, and ensures nondiscrimination in the receipt of FTA benefits, employment, and business opportunities. The office advises and assists the Administrator and other FTA officials in ensuring compliance with applicable civil rights regulations, statutes and directives, including but not limited to the Americans with Disabilities Act of 1990 (ADA), the Civil Rights Act of 1964, Disadvantaged Business Enterprise (DBE) participation, and Equal Employment Opportunity, within FTA and in the conduct of federally assisted public transportation projects and programs. The office monitors the implementation of and compliance with civil rights requirements, investigates complaints, conducts compliance reviews, and provides technical assistance to recipients of FTA assistance and members of the public.

(e) Office of Communications and Congressional Affairs. Directed by an Associate Administrator for Communications and Congressional Affairs, this office is the agency's lead office for media relations, public affairs, and Congressional relations, providing quick response support to the agency, the public, and Members of Congress on a daily basis. The office distributes information about FTA programs and policies to the public, the transit industry, and other interested parties through a variety of media. This office also coordinates the Administrator's public appearances and is responsible for managing correspondence and other information directed to and issued by the Administrator and Deputy Administrator.

(f) Office of Planning and Environment. Directed by an Associate Administrator for Planning and Environment, this office administers a national program of planning assistance that provides funding, guidance, and technical support to State and local transportation agencies. In partnership with the Federal Highway Administration (FHWA), this office oversees a national program of planning assistance and certification of metropolitan and statewide planning organizations, implemented by FTA Regional Offices and FHWA Divisional Offices. The office provides national guidance and technical support in emphasis areas including planning capacity building, financial planning, transit-oriented development, joint development, project cost estimation, travel demand forecasting, and other technical areas. This office also oversees the Federal environmental review process as it applies to transit projects throughout the country, including implementation of the National Environmental Policy Act (NEPA), the Clean Air Act, and related laws and regulations. The office provides national guidance and oversight of planning and project development for proposed major transit capital fixed guideway projects, commonly referred to as the Capital Investment Grants (CIG) program. In addition, this office is responsible for the evaluation and rating of proposed projects based on a set of statutory criteria, and applies these ratings as input to the Annual CIG Report and funding recommendations submitted to Congress, as well as for FTA approval required for CIG projects to advance into preliminary engineering, final design, and full funding grant agreements.

(g) Office of Program Management. Directed by an Associate Administrator for Program Management, this office administers a national program of capital and operating assistance by managing financial and technical resources and by directing program implementation. The office coordinates all grantee directed guidance, in the form of circulars and other communications, develops and distributes procedures and program guidance to assist the field staff in grant program administration and fosters responsible stewardship of Federal transit resources by facilitating and assuring consistent grant development and implementation nationwide (Statutory, Formula, Discretionary and Earmarks). This office manages the oversight program for agency formula grant programs and provides national expertise and direction in the areas of capital construction, rolling stock, and risk assessment techniques.

(h) Office of Research, Demonstration, and Innovation. Directed by an Associate Administrator for Research, Demonstration and Innovation, this office provides transit industry leadership in delivery of solutions that improve public transportation. The office undertakes research, development, and demonstration projects that help to increase ridership; improve capital and operating efficiencies; enhance safety and emergency preparedness; and better protect the environment and promote energy independence. The office leads FTA programmatic efforts under the National Research Programs (49 U.S.C. 5314).

(i) Office of Transit Safety and Oversight. Directed by an Associate Administrator for Transit Safety and Oversight, this office administers a national transit safety program and program compliance oversight process to advance the provision of safe, reliable, and equitable transit service through adherence to legislative, policy and regulatory requirements as established by FTA.

(j) Office of Regional Services. Directed by an Associate Administrator for Regional Services, this office promotes successful and accountable program delivery, national consistency, and effective communication and collaboration with the FTA Regional Offices, leveraging their expertise and experience to improve FTA's administration of programs. The Associate Administrator for Regional Services supports the regional teams responsible for effectively administering the national federal transit program by ensuring program stewardship and oversight; advancing consistent corporate business practices in the areas of performance management and risk management; increasing the use of data and information for decision making; and improving operational efficiency.

§ 601.4 Responsibilities of the Administrator.

The Administrator is responsible for the planning, direction and control of the activities of FTA and has authority to approve Federal transit grants, loans, and contracts. The Deputy Administrator is the “first assistant” for purposes of the Federal Vacancies Reform Act of 1998 (Pub. L. 105-277) and shall, in the event of the absence or disability of the Administrator, serve as the Acting Administrator, subject to the limitations in that Act. In the event of the absence or disability of both the Administrator and the Deputy Administrator, officials designated by the agency's internal order on succession shall serve as Acting Deputy Administrator and shall perform the duties of the Administrator, except for any non-delegable statutory or regulatory duties.

Subpart B—Public Availability of Information

§ 601.10 Sources of information.

(a) FTA guidance documents. (1) Circulars and other guidance/policy information are available on FTA's website.

(2) Single copies of any guidance document may be obtained without charge by calling FTA's Administrative Services Help Desk, at (202) 366-4865.

(3) Single copies of any guidance document may also be obtained without charge upon written request to the Associate Administrator for Administration, Federal Transit Administration, 1200 New Jersey Avenue SE, Washington, DC, 20590.

(b) DOT Docket Management System. Unless a particular document says otherwise, the following rulemaking documents in proceedings started after February 1, 1997, are available for public review at the Department of Transportation's Docket Management Facility, 1200 New Jersey Avenue SE, West Building Ground Floor, Room W12-140, Washington, DC 20590, or for review at https://www.regulations.gov:

(1) Advance notices of proposed rulemaking;

(2) Notices of proposed rulemaking;

(3) Comments received in response to notices;

(4) Petitions for rulemaking and reconsideration;

(5) Denials of petitions for rulemaking and reconsideration; and

(6) Final rules.

(c) Any person may examine docketed material, at any time during regular business hours after the docket is established, and may obtain a copy of such material upon payment of a fee, except material ordered withheld from the public under 5 U.S.C. 552(b).

(d) Any person seeking documents not described above may submit a request under the Freedom of Information Act (FOIA) by following the procedures in part 7 of this title.

Subpart C—Rulemaking Procedures

§ 601.20 Applicability.

This part prescribes rulemaking procedures that apply to the issuance, amendment, and revocation of rules by FTA.

§ 601.21 [Reserved]

§ 601.22 General.

(a) Unless the Administrator, for good cause, finds a notice is impractical, unnecessary, or contrary to the public interest, and incorporates such a finding and a brief statement of the reasons for it in the rule, a notice of proposed rulemaking must be issued, and interested persons are invited to participate in the rulemaking proceedings involving rules under an Act.

(b) For rules for which the Administrator determines that notice is unnecessary because no adverse public comment is anticipated, the direct final rulemaking procedure described in § 601.36 may be followed.

§ 601.23 Initiation of rulemaking.

The Administrator initiates rulemaking on his/her own motion. However, in so doing, he/she may, in his/her discretion, consider the recommendations of his/her staff or other agencies of the United States or of other interested persons.

§ 601.24 Contents of notices of proposed rulemaking.

(a) Each notice of proposed rulemaking is published in the Federal Register, unless all persons subject to it are named and are personally served with a copy of it.

(b) Each notice, whether published in the Federal Register or personally served, includes:

(1) A statement of the time, place, and nature of the proposed rulemaking proceeding;

(2) A reference to the authority under which it is issued;

(3) A description of the subjects and issues involved or the substance and terms of the proposed rule;

(4) A statement of the time within which written comments must be submitted; and

(5) A statement of how and to what extent interested persons may participate in the proceeding.

§ 601.25 Participation by interested persons.

(a) Any interested person may participate in rulemaking proceedings by submitting comments in writing containing information, views, or arguments.

(b) In his/her discretion, the Administrator may invite any interested person to participate in the rulemaking procedures described in § 601.29.

§ 601.26 Petitions for extension of time to comment.

A petition for extension of the time to submit comments must be received not later than three (3) days before expiration of the time stated in the notice. The filing of the petition does not automatically extend the time for petitioner's comments. Such a petition is granted only if the petitioner shows good cause for the extension, and if the extension is consistent with the public interest. If an extension is granted, it is granted to all persons, and it is published in the Federal Register.

§ 601.27 Contents of written comments.

All written comments must be in English. Any interested person must submit as part of his/her written comments all material that he/she considers relevant to any statement of fact made by him/her. Incorporation of material by reference is to be avoided. However, if such incorporation is necessary, the incorporated material shall be identified with respect to document and page.

§ 601.28 Consideration of comments received.

All timely comments are considered before final action is taken on a rulemaking proposal. Late filed comments may be considered if practicable.

§ 601.29 Additional rulemaking proceedings.

The Administrator may initiate further rulemaking proceedings. For example, interested persons may be invited to make oral arguments, to participate in conferences between the Administrator or his/her representative at which minutes of the conference are kept, to appear at informal hearings presided over by officials designated by the Administrator at which a transcript or minutes are kept, or participate in any other proceeding to assure informed administrative action and to protect the public interest.

§ 601.30 Hearings.

(a) Sections 556 and 557 of title 5, United States Code, do not apply to hearings held under this part. Unless otherwise specified, hearings held under this part are informal, non-adversary, fact-finding procedures at which there are no formal pleadings or adverse parties. Any rule issued in a case in which an informal hearing is held is not necessarily based exclusively on the record of the hearing.

(b) The Administrator may designate a representative to conduct any hearing held under this part, and the Chief Counsel may designate a member of his/her staff to serve as legal officer at the hearing.

§ 601.31 Adoption of final rules.

Final rules are published in the Federal Register, unless all persons subject to it are named and are personally served a copy of it.

§ 601.32 Petitions for rulemaking or exemptions.

(a) Any interested person may petition the Administrator to establish, amend, or repeal a rule, or for a permanent or temporary exemption from FTA rules as allowed by law.

(b) Each petition filed under this section must:

(1) Be submitted to the Administrator, Federal Transit Administration, 1200 New Jersey Avenue SE, Washington, DC 20590;

(2) State the name, street and mailing addresses, and telephone number of the petitioner; if the petitioner is not an individual, state the name, street and mailing addresses and telephone number of an individual designated as an agent of the petitioner for all purposes related to the petition;

(3) Set forth the text or substance of the rule or amendment proposed, or of the rule from which the exemption is sought, or specify the rule that the petitioner seeks to have repealed, as the case may be;

(4) Explain the interest of the petitioner in the action requested, including, in the case of a petition for an exemption, the nature and extent of the relief sought and a description of the persons to be covered by the exemption;

(5) Contain any information and arguments available to the petitioner to support the action sought; and

(6) In the case of a petition for exemption, except in cases in which good cause is shown, the petition must be submitted at least 120 days before the requested effective date of the exemption.

§ 601.33 Processing of petitions.

(a) In general. Each petition received under § 601.32 is referred to the head of the office responsible for the subject matter of that petition. Unless the Administrator otherwise specifies, no public hearing, argument or other proceeding is held directly on a petition before its disposition under this section.

(b) Grants. If the Administrator determines the petition contains adequate justification, he/she initiates rulemaking action under subpart C of this part or grants the exemption, as applicable.

(c) Denials. If the Administrator determines the petition does not justify rulemaking or granting the exemption, he/she denies the petition.

(d) Notification. Whenever the Administrator determines that a petition should be granted or denied, the office concerned and the Office of Chief Counsel prepare a notice of that grant or denial for issuance to the petitioner, and the Administrator issues it to the petitioner.

§ 601.34 Petitions for reconsideration.

(a) Any interested person may petition the Administrator for reconsideration of a final rule issued under this part. The petition must be in English and submitted to the Administrator, Federal Transit Administration, 1200 New Jersey Avenue SE, Washington, DC 20590, and received not later than thirty (30) days after publication of the final rule in the Federal Register. Petitions filed after that time will be considered as petitions filed under § 601.32. The petition must contain a brief statement of the complaint and an explanation as to why compliance with the final rule is not practicable, is unreasonable, or is not in the public interest.

(b) If the petitioner requests the consideration of additional facts, he/she must state the reason the facts were not presented to the Administrator within the prescribed comment period of the rulemaking.

(c) The Administrator will not consider repetitious petitions.

(d) Unless the Administrator otherwise provides, the filing of a petition under this section does not stay the effective date of the final rule.

§ 601.35 Proceedings on petitions for reconsideration.

The Administrator may grant or deny, in whole or in part, any petition for reconsideration without further proceedings. In the event he/she determines to reconsider any rule, he/she may issue a final decision on reconsideration without further proceedings, or he/she may provide such opportunity to submit comment or information and data as he/she deems appropriate. Whenever the Administrator determines that a petition should be granted or denied, he/she prepares a notice of the grant or denial of a petition for reconsideration and issues it to the petitioner. The Administrator may consolidate petitions relating to the same rule.

§ 601.36 Procedures for direct final rulemaking.

(a) Rules the Administrator judges to be non-controversial and unlikely to result in adverse public comment may be published as direct final rules. These include non-controversial rules that:

(1) Affect internal procedures of FTA, such as filing requirements and rules governing inspection and copying of documents;

(2) Are non-substantive clarifications or corrections to existing rules;

(3) Update existing forms;

(4) Make minor changes in the substantive rule regarding statistics and reporting requirements;

(5) Make changes to the rule implementing the Privacy Act; and

(6) Adopt technical standards set by outside organizations.

(b) The Federal Register document will state that any adverse comment must be received in writing by FTA within the specified time after the date of publication and that, if no written adverse comment is received, the rule will become effective a specified number of days after the date of publication.

(c) If no written adverse comment is received by FTA within the specified time of publication in the Federal Register, FTA will publish a notice in the Federal Register indicating that no adverse comment was received and confirming that the rule will become effective on the date that was indicated in the direct final rule.

(d) If FTA receives any written adverse comment within the specified time of publication in the Federal Register, FTA will either publish a document withdrawing the direct final rule before it becomes effective and may issue an NPRM, or proceed by any other means permitted under the Administrative Procedure Act.

(e) An “adverse” comment for the purpose of this subpart means any comment that FTA determines is critical of the rule, suggests that the rule should not be adopted, or suggests a change that should be made in the rule. A comment suggesting that the policy or requirements of the rule should or should not also be extended to other Departmental programs outside the scope of the rule is not adverse.

Subpart D—Emergency Procedures for Public Transportation Systems

§ 601.40 Applicability.

This part prescribes procedures that apply to FTA grantees and subgrantees when the President has declared a national or regional emergency, when a State Governor has declared a state of emergency, when the Mayor of the District of Columbia has declared a state of emergency, or in anticipation of such declarations.

§ 601.41 Petitions for relief.

In the case of a national or regional emergency or disaster, or in anticipation of such a disaster, any FTA grantee or subgrantee may petition the Administrator for temporary relief from the provisions of any policy statement, circular, guidance document or rule.

§ 601.42 Emergency relief docket.

(a) By January 31st of each year, FTA shall establish an Emergency Relief Docket in https://www.regulations.gov.

(b) FTA shall publish a notice in the Federal Register identifying, by docket number, the Emergency Relief Docket for that calendar year. A notice shall also be published in the previous year's Emergency Relief Docket identifying the new docket number.

(c) If the Administrator, or his/her designee, determines that an emergency event has occurred, or in anticipation of such an event, FTA shall place a message on its web page indicating the Emergency Relief Docket has been opened and including the docket number.

§ 601.43 Opening the docket.

(a) The Emergency Relief Docket shall be opened within two business days of an emergency or disaster declaration in which it appears FTA grantees or subgrantees are or will be impacted.

(b) In cases in which emergencies can be anticipated, such as hurricanes, FTA shall open the docket and place the message on the FTA website in advance of the event.

(c) In the event a grantee or subgrantee believes the Emergency Relief Docket should be opened and it has not been opened, that grantee or subgrantee may submit a petition in duplicate to the Administrator, via U.S. mail, to: Federal Transit Administration, 1200 New Jersey Avenue SE, Washington, DC 20590; via telephone, at: (202) 366-4043; or via fax, at (202) 366-3472, requesting opening of the Docket for that emergency and including the information in § 601.45. The Administrator in his or her sole discretion shall determine the need for opening the Emergency Relief Docket.

§ 601.44 Posting to the docket.

(a) All petitions for relief must be posted in the docket in order to receive consideration by FTA.

(b) The docket is publicly accessible and can be accessed 24 hours a day, seven days a week, via the internet at https://www.regulations.gov. Petitions may also be submitted by U.S. mail or by hand delivery to the DOT Docket Management Facility, 1200 New Jersey Avenue SE, West Building Ground Floor, Room W12-140, Washington, DC 20590.

(c) In the event a grantee or subgrantee needs to request immediate relief and does not have access to electronic means to request that relief, the grantee or subgrantee may contact any FTA regional office or FTA headquarters and request that FTA staff submit the petition on their behalf.

(d) Any grantee or subgrantee submitting petitions for relief or comments to the docket must include the agency name (Federal Transit Administration) and that calendar year's docket number. Grantees and subgrantees making submissions by mail or hand delivery should submit two copies.

§ 601.45 Required information.

A petition for relief under this section shall:

(a) Identify the grantee or subgrantee and its geographic location;

(b) Specifically address how an FTA requirement in a policy statement, circular, or agency guidance will limit a grantee's or subgrantee's ability to respond to an emergency or disaster;

(c) Identify the policy statement, circular, guidance document and/or rule from which the grantee or subgrantee seeks relief; and

(d) Specify if the petition for relief is one-time or ongoing, and if ongoing identify the time period for which the relief is requested. The time period may not exceed three months; however, additional time may be requested through a second petition for relief.

§ 601.46 Processing of petitions.

(a) A petition for relief will be conditionally granted for a period of three (3) business days from the date it is submitted to the Emergency Relief Docket.

(b) FTA will review the petition after the expiration of the three business days and review any comments submitted thereto. FTA may contact the grantee or subgrantee that submitted the request for relief, or any party that submits comments to the docket, to obtain more information prior to making a decision.

(c) FTA shall then post a decision to the Emergency Relief Docket. FTA's decision will be based on whether the petition meets the criteria for use of these emergency procedures, the substance of the request, and the comments submitted regarding the petition.

(d) If FTA fails to post a response to the request for relief to the docket within three business days, the grantee or subgrantee may assume its petition is granted until and unless FTA states otherwise.

§ 601.47 Review Procedures.

(a) FTA reserves the right to reopen any docket and reconsider any decision made pursuant to these emergency procedures based upon its own initiative, on information or comments received subsequent to the three-business day comment period, or at the request of a grantee or subgrantee upon denial of a request for relief. FTA shall notify the grantee or subgrantee if it plans to reconsider a decision.

(b) FTA decision letters granting or denying a petition shall be posted in the appropriate Emergency Relief Docket and shall reference the document number of the petition to which it relates.

Issued in Washington, DC, under authority delegated in 49 CFR 1.91.
Tariq Bokhari,
Acting Administrator.

[FR Doc. 2025-12139 Filed 6-27-25; 4:15 pm]

BILLING CODE 4910-57-P